DEPARTMENT OF ENERGY

Federal Energy Regulatory Commission

[Docket No. CP01-27-000]

Columbia Gas Transmission Corporation; Notice of Application

November 9, 2000.

On November 3, 2000, Columbia Gas Transmission Corporation (Columbia), P.O. Box 1273, Charleston, West Virginia 25325-1273, filed an application in Docket No. CP01-27-000 pursuant to Section 7(b) of the Natural Gas Act (NGA) and Section 157.18 of the Commission's Regulations for permission and approval to abandon by sale to Viking Energy, Incorporated, a West Virginia corporation, certain natural gas storage facilities (known as the Grapevine B Storage field) located in Kanawha County, West Virginia, all as more fully set forth in the application which is on file with the Commission and open to public inspection. The filing may be viewed at http://www.ferc.fed.us/online/rims.htm (call 202-208-2222 for assistance).

Columbia states that the Grapevine B Storage Field consists of one storage well, approximately 0.09 mile of 4-inch well pipeline, approximately 0.8 mile of 4-inch storage pipeline, one measuring and regulating station, appurtenances, and storage field reservoir of 177 acres. Columbia states that the facilities were constructed by United Fuel Gas Company, a predecessor of Columbia, and certificated in Docket No. G-1202.¹ The field was designated as Storage Field X-53 in that order. Columbia states that its authorization to own and operate the Grapevine B Storage Field was granted by the Commission in Docket No CP71-132.² Columbia states that historically gas has been injected into Grapevine B utilizing high pressure gas received from Line SM-80; and, withdrawal volumes have been delivered into a low pressure transmission line without compression. Columbia states that due to changes in Columbia's customer obligations, the storage field can no longer operate without compression. Due to the “de minimus” nature of the facilities on Columbia's storage system (Grapevine B has historically averaged a total withdrawal of 30 MMcf during the heating season), the changes in market requirements, and the sources of supply in the area of the facilities, Columbia has determined that its current and future obligation can be met without the Grapevine B Storage field. Columbia states that therefore the capital expenditure required to install the necessary compression is not warranted.

¹ United Fuel Gas Co., 8 FPC¶ 945 (1949).

² Columbia Gas Transmission Corp., 45FPC¶ 398 (1971).

Columbia states that it does not propose the abandonment of service to any customer as a result of the proposed sale. Columbia states that there are no mainline tap consumers on the facilities to be sold nor are there any firm or non-firm contracts currently utilizing the facilities.

Questions regarding the details of this proposed abandonment should be directed to Victoria J. Hamilton, Certificate Coordinator, Columbia Gas Transmission Corporation, P.O. Box 1273, Charleston, West Virginia 25325-1273, call (304) 357-2297.

There are two ways to become involved in the Commission's review of this abandonment. First, any person wishing to obtain legal status by becoming a party to the proceedings for this abandonment should, on or before November 30, 2000, file with the Federal Energy Regulatory Commission, 888 First Street, NE, Washington, D.C. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this abandonment. The Commission will consider these comments in determining the appropriate action to be taken, but the filing of a comment alone will not serve to make the filer a party to the proceeding. The Commission's rules require that persons filing comments in opposition to the abandonment provide copies of their protests only to the party or parties directly involved in the protest.

Persons who wish to comment only on the environmental review of this abandonment should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Beginning November 1, 2000, comments and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying abandonment will be issued.

Linwood A. Watson, Jr.,
Acting Secretary.

[FR Doc. 00-29346 Filed 11-15-00; 8:45 am]

BILLING CODE 6717-01-M